DEPARTMENT OF HOUSING AND URBAN DEVELOPMENT

24 CFR Part 1000

[Docket No. FR-4676-C-02]

Indian Housing Block Grant Allocation Formula; Notice of Intent To Establish a Negotiated Rulemaking Committee and Request for Nominations; Correction

AGENCY: Office of the Assistant Secretary for Public and Indian Housing, HUD.

ACTION: Correction.

SUMMARY: On July 16, 2001, HUD published a notice announcing its intent to establish a negotiated rulemaking committee for the purpose of negotiating a proposed rule that would revise the allocation formula used under the Indian Housing Block Grant (IHBG) Program. The establishment of the committee will offer Indian tribal governments the opportunity to have input into any changes determined to be necessary to improve the distribution of funds under the IHBG Program. The July 16, 2001 notice contained a typographical error regarding the tentative date and locale of the first negotiated rulemaking committee meeting. The purpose of this document is to make the necessary correction and to advise the public that, at this time, HUD has not yet determined the date or location of the first committee meeting.

DATES: Comment Due Date: The comment due date announced in the July 16, 2001 notice remains unchanged. Comments on the July 16, 2001 notice are due on or before August 15, 2001.

ADDRESSES: Interested persons are invited to submit comments regarding the Committee and its proposed members to the Office of the Rules Docket Clerk, Office of General Counsel, Room 10276, Department of Housing and Urban Development, 451 Seventh Street, SW., Washington, DC 20410-0500. Communications should refer to the above docket number and title. Facsimile (FAX) comments are not acceptable. A copy of each communication submitted will be available for public inspection and copying between 7:30 a.m. and 5:30 p.m. weekdays at the above address.

FOR FURTHER INFORMATION CONTACT: Ted Key, Acting Deputy Assistant Secretary for Native American Programs, Office Public and Indian Housing, Department of Housing and Urban Development, Room 4126, 451 Seventh Street, SW., Washington, DC 20410-0500; telephone (202) 401-7914 (this number is not toll-free). Hearing or speech-impaired individuals may access this number via TTY by calling the toll-free Federal Information Relay Service at 1-800-877-8339.

SUPPLEMENTARY INFORMATION:

I. Background

On July 16, 2001 (66 FR 37098), HUD published a notice announcing its intent to establish a negotiated rulemaking committee for the purpose of negotiating a proposed rule that would revise the allocation formula used under the Indian Housing Block Grant (IHBG) Program. The establishment of the committee will offer Indian tribal governments the opportunity to have input into any changes determined to be necessary to improve the distribution of funds under the IHBG Program. Section IV. of the July 16, 2001 notice (entitled “Tentative Schedule”) contained a typographical error regarding the tentative date and locale of the first negotiated rulemaking committee meeting. Specifically, the notice contained a notation to insert the approximate date and location of the meeting, but did not provide the necessary information. The purpose of this document is to make the necessary correction.

At this time, HUD has not yet determined the date or location of the first committee meeting. Once determined, HUD will provide advance notice of the meeting through Federal Register notice. All meetings of the negotiated rulemaking committee will be open to the public without advance registration. Public attendance may be limited to the space available. Members of the public will be provided the opportunity to make statements during the meeting, to the extent time permits, and file written statements with the committee for its consideration. In the event that the date and time of these meetings are changed, HUD will advise the public through Federal Register notice.

Dated: July 20, 2001.
Paula O. Blunt,
Acting General Deputy Assistant Secretary for Public and Indian Housing.

[FR Doc. 01-18599 Filed 7-25-01; 8:45 am]

BILLING CODE 4210-33-P